DEPARTMENT OF COMMERCE

International Trade Administration

[A-552-801]

Certain Frozen Fish Fillets From the Socialist Republic of Vietnam: Preliminary Results of Antidumping Duty Administrative Review and Rescission of Administrative Review, in Part; 2022-2023

AGENCY: Enforcement and Compliance, International Trade Administration, Department of Commerce.

SUMMARY: The U.S. Department of Commerce (Commerce) is conducting an administrative review of the antidumping duty order on certain frozen fish fillets (fish fillets) from the Socialist Republic of Vietnam (Vietnam). The period of review (POR) is August 1, 2022, through July 31, 2023. Commerce preliminarily determines that the exporters under review did not sell subject merchandise at prices below normal value (NV) during the POR, and that eight exporters are eligible for separate rates. We invite interested parties to comment on these preliminary results.

DATES: Applicable September 17, 2024.

FOR FURTHER INFORMATION CONTACT: Javier Barrientos or Christopher Maciuba, AD/CVD Operations, Office V, Enforcement and Compliance, International Trade Administration, U.S. Department of Commerce, 1401 Constitution Avenue NW, Washington, DC 20230; telephone: (202) 482-2243 or (202) 482-0413, respectively.

SUPPLEMENTARY INFORMATION:

Background

On October 18, 2023, Commerce initiated an administrative review of the antidumping duty order on fish fillets from Vietnam in accordance with 19 CFR 351.221(c)(1)(i) and section 751(a) of the Tariff Act of 1930, as amended (the Act).¹ This review covers eight exporters of the subject merchandise.² We selected two exporters, Bien Dong ³ and Vinh Hoan,⁴ for individual examination as mandatory respondents.⁵ On April 29, 2024, Commerce extended the deadline for these preliminary results to August 30, 2024.⁶ On July 22, 2024, Commerce tolled certain deadlines in this administrative proceeding by seven days.⁷ The deadline for the preliminary results is now September 6, 2024.

¹ See Initiation of Antidumping and Countervailing Duty Administrative Reviews, 88 FR 71829 (October 18, 2023) (Initiation Notice). Although the Initiation Notice listed 151 company/entity names, we are treating the majority of these companies as part of the Vietnam-wide entity, and we are preliminarily considering several other companies to be part of the same entity. Further, we are rescinding the review with respect to numerous companies.

² See Memorandum, “Respondent Selection,” dated January 8, 2021 (Respondent Selection Memorandum).

³ We are preliminarily considering Bien Dong Seafood Joint Stock Company and two affiliated companies, Bien Dong Hau Giang Seafood Joint Stock Company and Seavina Joint Stock Company, to be a single entity. See Memorandum, “Single-Entity Analysis for Bien Dong Seafood Company, Ltd. and Affiliated Companies,” dated September 6, 2024. Hereinafter, we collectively refer to these companies as Bien Dong.

⁴ As noted in the Initiation Notice, Vinh Hoan is a single entity comprised of: (1) Vinh Hoan Corporation; (2) Van Duc Food Export Joint Stock Company (also known as Van Duc); (3) Van Duc Tien Giang Food Export Company (also known as VDTG or Van Duc Tien Giang Food Exp. Co.); (4) Thanh Binh Dong Thap One Member Company Limited (also known as Thanh Binh Dong Thap or Thanh Binh Dong Thap Ltd.); and (5) Vinh Phuoc Food Company Limited (also known as Vinh Phuoc or VP Food).

⁵ See Respondent Selection Memorandum; see also Memorandum, “Selection of Second Mandatory Respondent,” dated April 30, 2024.

⁶ See Memorandum, “Extension of Deadline for Preliminary Results of the Antidumping Duty Administrative Review,” dated April 29, 2024.

⁷ See Memorandum, “Tolling of Deadlines for Antidumping and Countervailing Duty Proceedings,” dated July 22, 2024.

For a complete description of the events that followed the initiation of this review, see the Preliminary Decision Memorandum.⁸ A list of the topics discussed in the Preliminary Decision Memorandum is included in Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁸ See Memorandum, “Decision Memorandum for the Preliminary Results of the Administrative Review of the Antidumping Duty Order on Certain Frozen Fish Fillets from the Socialist Republic of Vietnam; 2022-2023,” dated concurrently with, and hereby adopted by, this notice (Preliminary Decision Memorandum).

Scope of the Order

The products covered by this order are fish fillets from Vietnam. For a full description of the scope of the order, see the Preliminary Decision Memorandum.

Standing

Based on an analysis of information gathered from initial and supplemental questionnaires, we find that the evidence supports a determination that Maritime Products International and QMC Foods Inc. have standing in this segment of the proceeding to request administrative review as wholesalers of domestic like product pursuant to section 771(9)(C) of the Act. We find that the evidence on record does not support Luscious Seafood LLC's claim to be a wholesaler of domestic like product pursuant to section 771(9)(C) of the Act during the POR. For additional information regarding these findings, see the Preliminary Decision Memorandum and standing memoranda.⁹

⁹ See Memoranda, “Maritime Products International Standing to Request Review,” dated concurrently with this notice; and “Luscious Seafood LLC's Standing to Request Review,” dated concurrently with this notice.

Separate Rates

Commerce preliminarily determines that information placed on the record by mandatory respondents Bien Dong and Vinh Hoan, and six additional companies seeking a separate rate (i.e., Can Tho Import Export Seafood Joint Stock Company, Dai Thanh Seafoods Company Limited, Dong A Seafood One Member Company Limited, HungCa 6 Corporation, Nam Viet Corporation, and NTSF Seafoods Joint Stock Company) demonstrates that these companies are preliminarily entitled to separate rate status. For additional information, see the Preliminary Decision Memorandum.

Vietnam-Wide Entity

The Vietnam-wide entity will not be under review unless a party specifically requests, or Commerce self-initiates, a review of the entity. Because the only valid request for review of the Vietnam-wide entity was withdrawn, we are preliminary rescinding our review of the entity; if this decision becomes final, the entity's rate (i.e., $2.39 per kilogram (kg)) will not be subject to change. With the exception of the eight companies which established their eligibility for a separate rate, Commerce considers all companies currently under review to be part of the Vietnam-wide entity.¹⁰ For additional information, see the Preliminary Decision Memorandum and the “Dumping Margin for Exporters Not Selected for Individual Review” section below.

¹⁰ See Appendix III.

Rescission of Administrative Review, in Part

Pursuant to 19 CFR 351.213(d)(1), Commerce will rescind an administrative review, in whole or in part, if the party that requested a review withdraws the request within 90 days of the date of the publication of the notice of initiation. In January 2024, the petitioners ¹¹ timely withdrew their review request for the Vietnam-wide entity.¹² The only remaining review request for the Vietnam-wide entity is from Luscious Seafood. As noted above, we have preliminarily determined that Luscious Seafood was not a U.S. wholesaler of domestic like product during the POR, and, thus, it does not have standing to request an administrative review in this segment of the proceeding; accordingly, we are preliminarily rescinding our review of the Vietnam-wide entity because all other requests for review from interested parties have been withdrawn.

¹¹ The petitioners are the Catfish Farmers of America and individual U.S. catfish processors America's Catch, Inc., Alabama Catfish, LLC d/b/a Harvest Select Catfish, Inc., Consolidated Catfish Companies, LLC d/b/a Country Select Catfish, Delta Pride Catfish, Inc., Guidry's Catfish, Inc., Heartland Catfish Company, Magnolia Processing, Inc. d/b/a Pride of the Pond, and Simmons Farm Raised Catfish, Inc.

¹² See Petitioners' Letter, “Partial Withdrawal of Request for Administrative Review of Antidumping Duty Order,” dated January 17, 2024.

Further, pursuant to 19 CFR 351.213(d)(3), when there are no reviewable entries of subject merchandise during the POR subject to the antidumping duty order for which liquidation is suspended, Commerce may rescind an administrative review, in whole or only with respect to a particular exporter or producer.¹³ At the end of the administrative review, any suspended entries are liquidated at the assessment rate computed for the review period.¹⁴ Therefore, for an administrative review to be conducted, there must be a reviewable, suspended entry to be liquidated at the newly calculated assessment rate.

¹³ See, e.g., Forged Steel Fittings from Taiwan: Rescission of Antidumping Duty Administrative Review; 2018-2019, 85 FR 71317, 71318 (November 9, 2020); and Certain Circular Welded Non-Alloy Steel Pipe from Mexico: Rescission of Antidumping Duty Administrative Review; 2016-2017, 83 FR 54084 (October 26, 2018).

¹⁴ See 19 CFR 351.212(b)(1).

On December 29, 2023, Commerce placed information from U.S. Customs and Border Protection (CBP) on the record, and notified all interested parties of its intent to rescind this review with respect to numerous companies because those companies had no reviewable, suspended entries of subject merchandise, and we invited parties to comment.¹⁵ As discussed in the Preliminary Decision Memorandum, we do not find that the comments/information submitted to the record undermines the validity of the CBP data. Accordingly, in the absence of suspended entries of subject merchandise during the POR for 12 companies/entities that currently have a separate rate for which this review was initiated, we are hereby rescinding this administrative review, in part, with respect to these companies, in accordance with 19 CFR 351.213(d)(3). See Appendix II.A for a list of the applicable companies.

¹⁵ See Memorandum, “Notice of Intent to Rescind,” dated December 29, 2023.

Finally, we are rescinding this review with respect to one company whose only POR entry has already been individually examined in a recently-completed new shipper review ¹⁶ in this proceeding. See Appendix II.B.

¹⁶ See Certain Frozen Fish Fillets from the Socialist Republic of Vietnam: Final Results of Antidumping Duty New Shipper Review; 2022-2023, 89 FR 53043 (June 25, 2024).

Methodology

Commerce is conducting this review in accordance with section 751(a)(1)(B) of the Act. We have calculated constructed export price in accordance with section 772 of the Act. Because Vietnam is a non-market economy country within the meaning of section 771(18) of the Act, we have calculated NV in accordance with section 773(c) of the Act. For a full description of the methodology underlying our conclusions, see the Preliminary Decision Memorandum.

Dumping Margin for Exporters Not Selected for Individual Review

The Act and Commerce's regulations do not address the establishment of a rate to apply to exporters not selected for individual examination when Commerce limits its examination in an administrative review pursuant to section 777A(c)(2) of the Act. Generally, Commerce looks to section 735(c)(5) of the Act, which provides instructions for calculating the all-others rate in an investigation, for guidance when calculating the rate for respondents that are not individually examined in an administrative review. Section 735(c)(5)(A) of the Act provides that the all-others rate should be calculated by averaging the weighted-average dumping margins calculated for individually-examined respondents, excluding dumping margins that are zero, de minimis, or based entirely on facts available.¹⁷ However, if this method is not feasible, Commerce may use another reasonable method to calculate the non-individually examined exporters' or producers' rates.¹⁸

¹⁷ See Statement of Administrative Action Accompanying the Uruguay Round Agreements Act, H.R. Doc. 103-316, Vol. 1 (1994) (SAA), at 873.

¹⁸ Id.

Consistent with the Act and the SAA, we have preliminarily determined that a reasonable method for assigning a dumping margin to the non-individually examined separate-rate companies, under section 735(c)(5)(B) of the Act, is to assign the zero percent dumping margin calculated for the mandatory respondents. Accordingly, we assigned exporters that we did not individually examine a dumping margin equal to Bien Dong and Vinh Hoan's dumping margin,¹⁹ consistent with Commerce's practice and section 735(c)(5)(A) of the Act.

¹⁹ See Memoranda, “Preliminary Results Analysis Memorandum for the Vinh Hoan Corporation,” dated concurrently with this notice; and “Preliminary Results Analysis Memorandum for Bien Dong Seafood Joint Stock Company,” dated concurrently with this notice.

Preliminary Results of Review

Commerce preliminarily determines that the following estimated weighted-average dumping margins exist for the period August 1, 2022, through July 31, 2023:

Exporter | Weighted- average dumping margin (dollars per kilogram)
Bien Dong Seafood Co., Ltd./Bien Dong Hau Giang Seafood Joint Stock Company/Seavina Joint Stock Company | $0.00
Vinh Hoan Corporation/Van Duc Food Export Joint Stock Company/Van Duc Tien Giang Food Export Company/Thanh Binh Dong Thap One Member Company Limited/Vinh Phuoc Food Company Limited | 0.00
Can Tho Import-Export Seafood Joint Stock Company | * 0.00
Dai Thanh Seafoods Company Limited | * 0.00
Dong A Seafood One Member Co., Ltd | * 0.00
HungCa 6 Corporation | * 0.00
Nam Viet Corporation | * 0.00
NTSF Seafoods Joint Stock Company | * 0.00
* This rate is based on the rates calculated for the mandatory respondents in this review.

Disclosure and Public Comment

We intend to disclose the calculations performed to parties within five days of the date of publication of this notice.²⁰

²⁰ See 19 CFR 351.224(b).

In accordance with 19 CFR 351.309(c), case briefs or other written comments may be submitted to the Assistant Secretary for Enforcement and Compliance no later than 30 days after the date of publication of this notice. Rebuttal briefs, limited to issues raised in case briefs, may be submitted no later than five days after the deadline for case briefs.²¹ Pursuant to 19 CFR 351.309(c)(2) and (d)(2), parties who submit case briefs or rebuttal briefs in this review are encouraged to submit with each argument: (1) a statement of the issue; (2) a brief summary of the argument; and (3) a table of authorities.

²¹ See 19 CFR 351.309; see also 19 CFR 351.303 (for general filing requirements).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.²² Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).²³

²² We use the term “issue” here to describe an argument that Commerce would normally address in a comment of the Issues and Decision Memorandum.

²³ See Administrative Protective Order, Service, and Other Procedures in Antidumping and Countervailing Duty Proceedings, 88 FR 67069, 67077 (September 29, 2023).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at a time and date to be determined. Parties should confirm by telephone the date, time, and location of the hearing two days before the scheduled date.

Assessment Rates

Upon completion of the final results of this administrative review, Commerce shall determine, and CBP shall assess, antidumping duties on all appropriate entries covered by this review. Pursuant to 19 CFR 351.212(b)(1), if the weighted-average dumping margin for each individually examined respondent is not zero or de minimis (i.e., less than 0.50 percent) in the final results of this review, Commerce intends to calculate importer-specific (or customer-specific) per-unit assessment rates by dividing the amount of dumping for reviewed sales to the importer or customer by the total sales quantity associated with those transactions. If either respondent's weighted-average dumping margin is zero or de minimis in the final results of review, or if an importer-specific or customer-specific assessment rate is zero or de minimis, we will instruct CBP to liquidate appropriate entries without regard to antidumping duties. The final results of this review shall be the basis for the assessment of antidumping duties on entries of merchandise covered by this review, and for future deposits of estimated duties, where applicable.²⁴

²⁴ See section 751(a)(2)(C) of the Act.

For any exporter that was not selected for individual examination in this administrative review, but which qualified for a separate rate, Commerce will instruct, and CBP shall assess, antidumping duties on all appropriate entries of subject merchandise at the cash deposit rate determined for these companies in the final results of review. For any companies/entities for which we rescind this administrative review in the final results, Commerce will instruct CBP to assess antidumping duties on all appropriate entries at a rate equal to the cash deposit of estimated antidumping duties required at the time of entry, or withdrawal from warehouse, for consumption.

Commerce intends to issue assessment instructions to CBP no earlier than 35 days after the date of publication of the final results of this review in the Federal Register. If a timely summons is filed at the U.S. Court of International Trade (CIT), the assessment instructions will direct CBP not to liquidate relevant entries until the time for parties to file a request for a statutory injunction has expired (i.e., within 90 days of publication).

For the companies for which Commerce is rescinding this review at this time (see Appendix II.A), we will instruct CBP to assess antidumping duties at rate equal to the cash deposit of estimated antidumping duties required at the time of entry, or withdrawal from warehouse, for consumption in the United States, in accordance with 19 CFR 351.212(c)(1)(i). Commerce intends to issue assessment instructions to CBP no earlier than 35 days after the date of publication of this rescission notice in the Federal Register. As noted above, if a timely summons is filed at the CIT, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) for the exporters listed above, the cash deposit rate will be equal to the weighted-average dumping margins established in the final results of this review, except if the rate is de minimis, in which case the cash deposit rate will be zero; (2) for previously-examined Vietnamese and non-Vietnamese exporters not listed above that at the time of entry are eligible for a separate rate based on a prior completed segment of this proceeding, the cash deposit rate will continue to the be the existing exporter-specific cash deposit rate; (3) for all non-Vietnamese exporters of subject merchandise which at the time of entry do not have a separate rate, the cash deposit rate will be the rate applicable to the Vietnamese exporter that supplied the non-Vietnamese exporter; and (4) for all Vietnamese exporters of subject merchandise that have not been found to be entitled to a separate rate at the time of entry, the cash deposit rate will be that for the Vietnam-wide entity (i.e., $2.39 per kilogram). These cash deposit requirements, when imposed, shall remain in effect until further notice.

Final Results of Review

Unless otherwise extended, Commerce intends to issue the final results of this administrative review, including the results of its analysis of the issues raised in any written briefs, no later than 120 days after the date of publication of this notice, pursuant to section 751(a)(3)(A) of the Act.

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

We are issuing and publishing the preliminary results of this review in accordance with sections 751(a)(1) and 777(i) of the Act, and 19 CFR 351.221(b)(4).

Dated: September 6, 2024.
Abdelali Elouaradia,
Deputy Assistant Secretary for Enforcement and Compliance.

Appendix I

List of Topics Discussed in the Preliminary Decision Memorandum

I. Summary

II. Background

III. Scope of the Order

IV. Standing

V. Rescission of Administrative Review, In Part

VI. Discussion of the Methodology

VII. Recommendation

Appendix II

Companies for Which Commerce Is Rescinding the Review

A. Companies With Separate Rates and No Entries

1. C.P. Vietnam Corporation

2. Can Tho Animal Fishery Products Processing Export Enterprise (also known as Cafatex Corporation, or Cafatex)

3. East Sea Seafoods LLC (also known as East Sea Seafoods Limited Liability Company, ESS LLC, ESS, ESS JVC, or East Sea Seafoods Joint Venture Co., Ltd.)

4. Fatifish Company Limited (also known as FATIFISH or FATIFISHCO or Fatfish Co., Ltd.)

5. GODACO Seafood Joint Stock Company (also known as GODACO, GODACO Seafood, GODACO SEAFOOD, GODACO_SEAFOOD, or GODACO Seafood J.S.C.)

6. Green Farms Seafood Joint Stock Company (also known as Green Farms, Green Farms Seafood JSC, GreenFarm SeaFoods Joint Stock Company, or Green Farms Seafoods Joint Stock Company)

7. Hai Huong Seafood Joint Stock Company (also known as HHFish, HH Fish, or Hai Huong Seafood)

8. Hung Vuong Corporation; Hung Vuong Joint Stock Company, HVC or HV Corp.; An Giang Fisheries Import and Export Joint Stock Company (also known as Agifish, An Giang Fisheries Import and Export, An Giang Fisheries Import & Export Joint Stock Company); Asia Pangasius Company Limited (also known as ASIA); Europe Joint Stock Company (also known as Europe, Europe JSC or EJS CO.); Hung Vuong Ben Tre Seafood Processing Company Limited (also known as Ben Tre, HVBT, or HVBT Seafood Processing); Hung Vuong Mascato Company Limited (also known as Mascato); Hung Vuong—Sa Dec Co., Ltd. (also known as Sa Dec or Hung Vuong Sa Dec Company Limited); Hung Vuong—Vinh Long Co., Ltd. (also known as Vinh Long or Hung Vuong Vinh Long Company Limited) ²⁵

9. I.D.I International Development and Investment Corporation (also known as IDI, International Development & Investment Corporation, International Development and Investment Corporation, or IDI International Development & Investment Corporation)

10. Loc Kim Chi Seafood Joint Stock Company (also known as Loc Kim Chi)

11. QVD Food Co., Ltd.; QVD Dong Thap Food Co., Ltd. (also known as Dong Thap or QVD DT); Thuan Hung Co., Ltd. (also known as THUFICO)

12. Vinh Quang Fisheries Corporation (also known as Vinh Quang, Vinh Quang Fisheries Corp., Vinh Quang Fisheries Joint Stock Company, or Vinh Quang Fisheries Co., Ltd.)

B. Company Covered by a Concurrent/Completed New Shipper Review

1. Co May Imp. Exp. Co.

Appendix III

Companies Treated as Part of the Vietnam-Wide Entity

1. An Chau Co., Ltd.

2. An Giang Agriculture and Food Import-Export Joint Stock Company (also known as Afiex or An Giang Agriculture and Foods Import-Export Joint Stock Company).

3. An Hai Fishery Ltd. Co.

4. An My Fish Joint Stock Company (also known as Anmyfish, Anmyfishco or An My Fish Joint Stock).

5. An Phat Import-Export Seafood Co., Ltd. (also known as An Phat Seafood Co. Ltd. or An Phat Seafood, Co., Ltd.).

6. An Phu Seafood Corp. (also known as ASEAFOOD or An Phu Seafood Corp.).

7. Anchor Seafood Corp.

8. Anh Vu Seafoods Corporation.

9. Anvifish Joint Stock Company (also known as Anvifish, Anvifish JSC, or Anvifish Co., Ltd.).

10. Asia Commerce Fisheries Joint Stock Company (also known as Acomfish JSC or Acomfish).

11. Basa Joint Stock Company (also known as BASACO).

12. Ben Tre Aquaproduct Import and Export Joint Stock Company (also known as Bentre Aquaproduct, Bentre Aquaproduct Import & Export Joint Stock Company or Aquatex Bentre).

13. Bentre Forestry and Aquaproduct Import Export Joint Stock Company (also known as Bentre Forestry and Aquaproduct Import and Export Joint Stock Company, Ben Tre Forestry and Aquaproduct Import-Export Company, Ben Tre Forestry Aquaproduct Import-Export Company, Ben Tre Frozen Aquaproduct Export Company or Faquimex).

14. Bentre Seafood Jsc.

15. Binh An Seafood Joint Stock Company (also known as Binh An or Binh An Seafood Joint Stock Co.).

16. Binh Dinh Fisheries Joint Stock.

17. Binh Dinh Garment Joint Stock Co.

18. Binh Dinh Import Export Company (also known as Binh Dinh Import Export Joint Stock Company, or Binh Dinh).

19. Binh Phu Seafood Co. Ltd.

20. Ca Mau Frozen Seafood Processing Import Export Corporation.

21. Cadovimex II Seafood Import-Export and Processing Joint Stock Company (also known as Cadovimex II, Cadovimex II Seafood Import Export and Processing Joint Stock Company, or Cadovimex II Seafood Import-Export).

22. Cantho Imp. Exp. Seafood.

23. Cantho Import Export Fishery Limited.

24. Cavina Seafood Joint Stock Company (also known as Cavina Fish or Cavina Seafood Jsc).

25. Cds Overseas Vietnam Co., Ltd.

26. Colorado Boxed Beef Company (also known as CBBC).

27. Coral Triangle Processors (dba Mowi Vietnam Co., Limited (Dong Nai)).

28. Cuu Long Fish Import-Export Corporation (also known as CL Panga Fish or Cuu Long Fish Imp. Exp. Corporation).

29. Cuu Long Fish Joint Stock Company (also known as CL-Fish, CL-FISH CORP, or Cuu Long Fish Joint Stock Company).

30. Cuu Long Seapro.

31. Da Nang Seaproducts Import-Export Corporation (also known as SEADANANG, Da Nang or Da Nang Seaproducts Import/Export Corp.).

32. Dai Tien Vinh Co., Ltd.

33. Dong Phuong Co., Ltd.

34. Dong Phuong Import Export Seafood Company Limited (also known as Dong Phuong Export Seafood Limited, Dong Phuong Seafood Company Limited, or aFishDeal).

35. Dragonwaves Frozen Food Factory Co., Ltd.

36. Europe Trading Co., Ltd.

37. GF Seafood Corp.

38. Gia Minh Co., Ltd.

39. Go Dang An Hiep One Member Limited Company.

40. Go Dang Ben Tre One Member Limited Liability Company.

41. Gold Future Imp. Exp.

42. Gold Future Imp. Exp. Development Co., Ltd.

43. Golden Quality Seafood Corporation (also known as Golden Quality, GoldenQuality, GOLDENQUALITY, or GoldenQuality Seafood Corporation).

44. GreenFeed Vietnam Corporation.

45. Ha Noi Can Tho Seafood Jsc.

46. Hai Thuan Nam Co., Ltd.

47. Hai Trieu Co., Ltd.

48. Hapag Lloyd (America) Inc.

49. Hasa Seafood Corp. (Hasaco).

50. Hiep Thanh Seafood Joint Stock Company (also known as Hiep Thanh or Hiep Thanh Seafood Joint Stock Co.).

51. Hoa Phat Seafood Import-Export and Processing J.S.C. (also known as HOPAFISH, Hoa Phat Seafood Import-Export and Processing Joint Stock Company, Hoa Phat Seafood Import-Export and Processing JSC, or Hoa Phat Seafood Imp. Exp. And Processing).

52. Hoang Long Seafood Processing Company Limited (also known as HLS, Hoang Long, Hoang Long Seafood, HoangLong Seafood, or Hoang Long Seafood Processing Co., Ltd.).

53. Hogiya Seafoods Inc.

54. Hong Hai International.

55. Hong Ngoc Seafood Co., Ltd.

56. Hung Phuc Thinh Food Jsc.

57. Hung Vuong Seafood Joint Stock Company.

58. Hung Vuong.

59. Hung Vuong—Mien Tay Aquaculture Corporation (HVMT or Hung Vuong Mien Tay Aquaculture Joint Stock Company).

60. Hungca Co., Ltd.

61. I.D.I International Development And.

62. Indian Ocean One Member Company Limited (also known as Indian Ocean Co., Ltd.).

63. Jk Fish Jsc.

64. Lian Heng Trading Co. Ltd. (also known as Lian Heng, Lian Heng Trading, Lian Heng Investment Co. Ltd., or Lian Heng Investment).

65. Mechanics Construction And Foodstuff.

66. Mekong Seafood Connection Co., Ltd.

67. Minh Phu Hau Giang Seafood Corp.

68. Minh Phu Seafood Corp.

69. Minh Qui Seafood Co., Ltd.

70. Nam Phuong Seafood Co., Ltd. (also known as Nam Phuong, NAFISHCO, Nam Phuong Seafood, or Nam Phuong Seafood Company Ltd.).

71. New Food Import, Inc.

72. Ngoc Ha Co. Ltd. Food Processing and Trading (also known as Ngoc Ha or Ngoc Ha Co., Ltd. Foods Processing and Trading).

73. Ngoc Tri Seafood Joint Stock.

74. Nguyen Tran Seafood Company (also known as Nguyen Tran J-S Co.).

75. Nha Trang Seafoods, Inc. (also known as Nha Trang Seafoods-F89, Nha Trang Seafoods, or Nha Trang Seaproduct Company).

76. NTACO Corporation (also known as NTACO or NTACO Corp.).

77. Pecheries Oceanic Fisheries Inc.

78. Phi Long Food Manufacturing Co. Ltd.

79. Phu Thanh Co., Ltd.

80. Phu Thanh Hai Co. Ltd. (also known as PTH Seafood).

81. Phuc Tam Loi Fisheries Imp.

82. Phuong Ngoc Cai Be Ltd. Liability.

83. PREFCO Distribution, LLC.

84. Pufong Trading And Service Co.

85. QMC Foods, Inc.

86. Qn Seafood Co., Ltd.

87. Quang Minh Seafood Company Limited (also known as Quang Minh, Quang Minh Seafood Co., Ltd., or Quang Minh Seafood Co.).

88. Quirch Foods, LLC.

89. Riptide Foods.

90. Saigon-Mekong Fishery Co., Ltd. (also known as SAMEFICO or Saigon Mekong Fishery Co., Ltd.).

91. Seafood Joint Stock Company No. 4 (also known as SEAPRIEXCO No. 4).

92. Seafood Joint Stock Company No. 4 Branch Dongtam Fisheries Processing Company (also known as DOTASEAFOODCO or Seafood Joint Stock Company No. 4—Branch Dong Tam Fisheries Processing Company).

93. Seagate Logistics Co., Ltd.

94. Sobi Co., Ltd.

95. Song Bien Co., Ltd.

96. Southern Fishery Industries Company, Ltd. (also known as South Vina, South Vina Co., Ltd., Southern Fishery Industries Co., Ltd., Southern Fisheries Industries Company, Ltd., or Southern Fisheries Industries Company Limited).

97. Sunrise Corporation.

98. Tam Le Food Co., Ltd.

99. Tan Thanh Loi Frozen Food Co., Ltd.

100. TG Fishery Holdings Corporation (also known as TG or Tg Fishery Holdings Corp.).

101. Thanh Dat Food Service And Trading.

102. Thanh Hung Co., Ltd. (also known as Thanh Hung Frozen Seafood Processing Import Export Co., Ltd. or Thanh Hung).

103. Thanh Phong Fisheries Corp.

104. The Great Fish Company, LLC.

105. Thien Ma Seafood Co., Ltd. (also known as THIMACO, Thien Ma, Thien Ma Seafood Company, Ltd., or Thien Ma Seafoods Co., Ltd.).

106. Thinh Hung Co., Ltd.

107. Thuan An Production Trading and Service Co., Ltd. (also known as TAFISHCO, Thuan An Production Trading and Services Co., Ltd., or Thuan An Production Trading & Service Co., Ltd.).

108. Thuan Nhan Phat Co., Ltd.

109. Thuan Phuoc Seafoods and Trading Corporation.

110. To Chau Joint Stock Company (also known as TOCHAU, TOCHAU JSC, or TOCHAU Joint Stock Company).

111. Tran Thai Food Joint Stock.

112. Trang Thuy Seafood Co., Ltd.

113. Trinity Vietnam Co., Ltd.

114. Trong Nhan Seafood Co., Ltd.

115. Truong Phat Seafood Jsc.

116. Van Y Corp.

117. Van.

118. Viet Hai Seafood Company Limited (also known as Viet Hai, Viet Hai Seafood Co., Ltd., Viet Hai Seafood Co., Vietnam Fish-One Co., Ltd., or Fish One).

119. Viet Long Seafood Co., Ltd.

120. Viet Phat Aquatic Products Co., Ltd.

121. Viet Phu Foods & Fish Co., Ltd.

122. Viet Phu Foods and Fish Corporation (also known as Vietphu, Viet Phu, Viet Phu Food and Fish Corporation, or Viet Phu Food & Fish Corporation).

123. Viet World Co., Ltd.

124. Vietnam Seaproducts Joint Stock Company (also known as Seaprodex or Vietnam Seafood Corporation—Joint Stock Company).

125. Vif Seafood Factory

126. Vinh Long Import-Export Company (also known as Vinh Long, Imex Cuu Long, Vinh Long Import/Export Company).

[FR Doc. 2024-21088 Filed 9-16-24; 8:45 am]

BILLING CODE 3510-DS-P